DEPARTMENT OF COMMERCE

International Trade Administration

[A-565-801]

Stainless Steel Butt-Weld Pipe Fittings From the Philippines: Initiation of Antidumping Duty Changed Circumstances Review

AGENCY: Enforcement and Compliance, International Trade Administration, Department of Commerce.

SUMMARY: In response to a request from Core Pipe Products, Inc., Shaw Alloy Piping Products, Inc., and Taylor Forge Stainless, Inc. (the petitioners), the Department of Commerce (Commerce) is initiating a changed circumstances review of the antidumping duty order on stainless steel butt-weld pipe fittings (pipe fittings) from the Philippines.

DATES: Applicable August 14, 2018.

FOR FURTHER INFORMATION CONTACT: Julie Geiger or Fred Baker, AD/CVD Operations, Office VI, Enforcement and Compliance, International Trade Administration, U.S. Department of Commerce, 1401 Constitution Avenue NW, Washington, DC 20230; telephone: (202) 482-2057 or (202) 482-2924, respectively.

SUPPLEMENTARY INFORMATION:

Background

As a result of the antidumping duty order ¹ issued following the completion of the less-than-fair-value (LTFV) investigation of pipe fittings from the Philippines, imports of pipe fittings from respondent Enlin Steel Corporation (Enlin) became subject to a cash deposit rate of 33.81 percent.² The “all others” rate established in the LTFV investigation was 7.59 percent.³

¹ See Antidumping Duty Orders: Stainless Steel Butt-Weld Pipe Fittings from Italy, Malaysia, and the Philippines, 66 FR 11257 (February 23, 2001) (the Order).

² Id.; see also Stainless Steel Butt-Weld Pipe Fittings from the Philippines Amended Final Determination of Sales at Less Than Fair Value Pursuant to Court Remand, 70 FR 30086 (May 25, 2005) (Amended Order).

³ See the Order and Amended Order.

On May 24, 2018, the petitioners requested that Commerce initiate a changed circumstances review of the Order, alleging that since imposition of the Order, Enlin has been evading the cash deposit rates established in the investigation by shipping its production through its affiliates Vinox Corporation (Vinox) (or Vinoc Corporation) and E N Corporation, which enter merchandise under the lower “all others” rate.⁴ The petitioners also filed a supplement to their request on May 31, 2018, which provided further support for their allegation.⁵ On June 26, 2018, Enlin, Vinox, and E N Corporation filed comments requesting that Commerce deny the petitioners' request.⁶ The petitioners filed a rebuttal to these comments on June 26, 2018, requesting that Commerce disregard Enlin's opposition letter.⁷ On July 5, 2018, Commerce issued a 30-day extension for its decision on whether or not to initiate a changed circumstances review, citing the complexities of the request.⁸

⁴ See Petitioners' Letter, “Stainless Steel Butt-Weld Pipe Fittings from the Philippines—Petitioners' Request for Initiation of Changed Circumstances Review A-565-801,” dated May 24, 2018 (Petitioners' Request).

⁵ See Petitioners' Letter, “Stainless Steel Butt-Weld Pipe Fittings from the Philippines—Petitioners' Supplement to Changed Circumstances Review Request,” dated May 31, 2018 (Petitioners' Supplement).

⁶ See Enlin's Letter, dated June 26, 2018.

⁷ See Petitioners' Letter, “Antidumping Duty Order on Stainless Steel Butt-Weld Pipe Fittings from the Philippines—Petitioners' Rebuttal to Respondents' Opposition to Changed Circumstances Review Request,” dated June 26, 2018.

⁸ See Commerce's Letter, “Stainless Steel Butt-Weld Pipe Fittings from the Philippines: Extension of Time for Changed Circumstances Review Initiation Decision,” dated July 5, 2018.

Scope of the Order

The products covered by the order are certain stainless steel butt-weld pipe fittings that are under 14 inches in outside diameter (based on nominal pipe size), whether finished or unfinished. For a full description of the scope of the order, see the Appendix to this notice.

Initiation of Changed Circumstances Review

Pursuant to section 751(b)(1) of the Tariff Act of 1930, as amended (the Act), Commerce will conduct a changed circumstances review upon receipt of information concerning, or a request from an interested party of, an antidumping duty order which shows changed circumstances sufficient to warrant a review of the order. In its request for initiation, the petitioners provided information indicating that since the issuance of the Order, there has been a change in the trading patterns and activities of Enlin, Vinox, and E N Corporation. The petitioners assert that the information provided demonstrates that the Order is being evaded. In accordance with 19 CFR 351.216(d), based on the information provided by the petitioners regarding new trading patterns and possible evasion of the Order, Commerce finds that changed circumstances sufficient to warrant the initiation of a changed circumstances review exist. Therefore, we are initiating a changed circumstances administrative review, pursuant to section 751(b)(1) of the Act and 19 CFR 351.216(b) and (d) to determine whether action is necessary to maintain the integrity of the Order. Commerce intends to publish in the Federal Register a notice of preliminary results of the antidumping duty changed circumstances review, in accordance with 19 CFR 351.221(b)(4) and 351.221(c)(3)(i), which will set forth Commerce's preliminary factual and legal conclusions. Commerce will issue its final results of review in accordance with the time limits set forth in 19 CFR 351.216(e).

We are issuing this notice in accordance with sections 751(b)(1) and 777(i)(l) of the Act and 19 CFR 351.216.

Dated: August 6, 2018.
James Maeder
Associate Deputy Assistant Secretary for Antidumping and Countervailing Duty Operations performing the duties of Deputy Assistant Secretary for Antidumping and Countervailing Duty Operations.

Appendix

Scope of the Order

The products covered by the order are certain stainless steel butt-weld pipe fittings. Certain stainless steel butt-weld pipe fittings are under 14 inches in outside diameter (based on nominal pipe size), whether finished or unfinished. The products encompass all grades of stainless steel and “commodity” and “specialty” fittings. Specifically excluded from the definition are threaded, grooved, and bolted fittings, and fittings made from any material other than stainless steel.

The fittings subject to the order are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Pipe fittings manufactured to specification ASTM A774, or its foreign equivalents, are also covered by the order.

The order does not apply to cast fittings. Cast austenitic stainless steel pipe fittings are covered by specifications A351/A351M, A743/743M, and A744/A744M.

The stainless steel butt-weld pipe fittings subject to the order are currently classifiable under subheading 7307.23.0000 of the Harmonized Tariff Schedule of the United States (HTSUS). Although the HTSUS subheadings are provided for convenience and customs purposes, the written description of the scope of this order is dispositive.

[FR Doc. 2018-17411 Filed 8-13-18; 8:45 am]

BILLING CODE 3510-DS-P